DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 29, 2001.

Interested persons are invited to submit written comments regarding the subject matter of the investigations to the Director, Division of Trade Adjustment Assistance, at the address shown below, not later than May 29, 2001.

The petitions filed in this case are available for inspection at the Office of the Director, Division of Trade Adjustment Assistance, Employment and Training Administration, U.S. Department of Labor, Room C-5311, 200 Constitution Avenue, NW., Washington, DC 20210.

Signed at Washington, DC, this 16th day of April, 2001.
Edward A. Tomchick,
Director, Division of Trade Adjustment Assistance.

Appendix
[Petitions instituted on 04/16/2001]
TA-W | Subject firm (petitioners) | Location | Date of petition | Product(s)
39,010 | Intel Puerto Rico, Ltd (Comp) | Las Piedras, PR | 03/28/2001 | Computer Equipment.
39,011 | Texas Boot, Inc. (Comp) | Hartsville, TN | 03/27/2001 | Western Footwear.
39,012 | Commtouch, Inc. (Comp.) | Mountain View, CA | 03/28/2001 | Provide Office Solutions.
39,013 | Boise Cascade Corp. (WCIW) | Emmett, ID | 04/02/2001 | Softwood Dimension Lumber.
39,014 | North American Heritage (Wrks) | Faribault, MN | 03/15/2001 | Woven Blankets and Afghens.
39,015 | Wheeling Pittsburgh Steel (USWA) | Allenport, PA | 03/29/2001 | Hot and Cold Rolled Sheet, Galvanized.
39,016 | Wabash Alloys (IAM) | Oak Creek, WI | 03/28/2001 | Secondary Aluminum Ingots.
39,017 | Federal Mogul Ignition (UAW) | Cambridge, OH | 03/30/2001 | Spark Plugs.
39,018 | Alamac Knit Fabrics (Comp) | New York, NY | 03/30/2001 | Yarn Dye and Piece Dye Knit Fabric.
39,018 | Alamac Knit Fabrics (Comp) | New York, NY | 03/30/2001 | Yarn Dye and Piece Dye Knit Fabric.
39,019 | Opelika Foundry Co. (Comp) | Opelika AL | 04/02/2001 | Grey Iron Castings.
39,020 | Magnesium Corp of America (Comp) | Salt Lake City, UT | 04/03/2001 | Magnesium Metal, Alloy & Granular.
39,021 | Ferry Cap and Set Screw (Wkrs) | Cleveland, OH | 03/31/2001 | Steel Fasteners.
39,022 | General Automotive (Comp) | Franklin, WI | 03/28/2001 | Precision Machining—Diesel Engines.
39,023 | Texas Instruments (Wkrs) | San Jose, CA | 03/29/2001 | Automotive Sensors.
39,024 | Premier Circuit Assembly (Wkrs) | Springhope, NC | 03/31/2001 | Cables—Computers, Telephones.
39,025 | Talon Automotive Group (Wkrs) | New Baltimore, MI | 03/30/2001 | Metal Stampings—Automotive.
39,026 | Bristol Myers Squibb (PACE) | North Brunswick, NJ | 03/29/2001 | Medication.
39,027 | Mar-Bax Shirt Co. (Comp) | Gassville, AR | 03/12/2001 | Shirts.
39,028 | M and G Polymers USA (Comp) | Apple Grove, WV | 03/27/2001 | PET Resin.
39,029 | Atofina Chemicals, Inc. (IAM) | Portland, OR | 04/04/2001 | Chloralkali Chemicals.
39,030 | Novo Knitting Co. (Wkrs) | Mansfield, OH | 03/30/2001 | Knitted Outerwear.
39,031 | IER, Inc. (Wkrs) | Temple, TX | 03/30/2001 | Airline Ticket Printers.
39,032 | Pinson Mining Co. (Comp) | Winnemucca, NV | 04/05/2001 | Gold Mining.
39,033 | General Electric | Bucyrus, OH | 03/06/2001 | Florescent Lamps.
39,034 | Thermodisc, Inc. (Comp) | El Paso, TX | 04/05/2001 | Fabricated Molded Products.
39,035 | Precision Twist Dril Co. (Wkrs) | Crystal Lake, IL | 03/21/2001 | Warehousing—Drills.
39,036 | Nooter Fabricators (Comp) | St. Louis, MO | 03/30/2001 | Custom Metal Plate Vessels.
39,037 | Clinton Industries, Inc. (Comp) | Carlstadt, NJ | 04/03/2001 | Industrial Sewing Machine Parts.
39,038 | Woodbury Apparel Group (Owner) | Woodbury, TN | 03/29/2001 | Men's and boys' Shirts.
39,039 | Fashions International (UNITE) | Scranton, PA | 03/31/2001 | Men's Sportswear, Suits, & Overcoats.
39,040 | Lebanon Apparel Corp. (Comp) | Lebanon, VA | 03/28/2001 | Career Apparel.
39,041 | Rawlings Manufacturing (UNITE) | Ava, MO | 04/02/2001 | Baseballs, Footballs, Gloves, Helmets.
39,042 | Agilent Technologies (Comp) | Loveland, CO | 03/30/2001 | Volt Meters & Bench Top Instruments.
39,043 | Pete's Cutting Service (Wkrs) | Hialeah, FL | 03/25/2001 | Cut Materials.
39,044 | Kahn-Lucas Lancaster (Wkrs) | Columbia, PA | 03/23/2001 | Children's Garments.
39,045 | Longview Aluminum Corp. (LATC) | Longview, WA | 03/30/2001 | Aluminum.
39,046 | Deferiet Paper Co. (PACE) | Deferiet, NY | 03/23/2001 | Groundwood Specialty Paper.
39,047 | Rayovac Corp. (Comp) | Wonewoc, WI | 03/28/2001 | Latern Batteries, Flashlights.
39,048 | Invensys Powerware Corp. (Wkrs) | Necedah, WI | 03/23/2001 | Power Protection, Power Supplies.
39,049 | Saunders Manufacturing Co. (Comp) | Readfield, ME | 04/05/2001 | Aluminum Clipboards, Bus. Form Holders.
39,050 | SCI Systems, Inc. (Comp) | Augusta, ME | 04/06/2001 | Electronic Assemblies.
39,051 | Pleasant River Lumber Co. (Wkrs) | Dover Foxcroft, ME | 04/05/2001 | Softwood Dimensional Lumber.
39,052 | Bechtel Jacobs LLC (PACE) | Piketon, OH | 04/06/2001 | Enriched Uranium Products.
39,053 | SGL Carbon LLC (USWA) | Niagara Falls, NY | 03/29/2001 | Carbon Graphite.
39,054 | Consolidated Loose Leaf (Wrks) | New York, NY | 04/03/2001 | Book Binders, Folders & Indexes.
39,055 | Newport Steel Corp. (CO.) | Newport, KY | 04/06/2001 | Steel Pipe.
39,056 | Peerless Pattern Works (Wkrs) | Portland, OR | 04/02/2001 | Foundry Patterns.
39,057 | Kolb Lena Bresse Bleu (UFCW) | Watertown, WI | 04/06/2001 | Goat's Milk Cheese.
39,058 | Garden State Cutting Co. (Wkrs) | Passaic, NJ | 03/28/2001 | Ladies' Apparel.
39,059 | Ludlow Coated Products (Wkrs) | Adrian, MI | 04/02/2001 | Laminatee Fiber Board.
39,060 | Ludlow Coated Products (Wkrs) | Adrian, MI | 04/02/2001 | Laminated Fibre Board.
39,061 | SOLA Optical (Comp) | Petaluma, CA | 03/30/2001 | Ophthalmic Lens.
39,062 | Gateway Sportswear Corp. (UNITE) | Charleroi, PA | 04/02/2001 | Sportswear Apparel.
39,063 | Grove U.S. LLC (Wkrs) | Shady Grove, PA | 03/28/2001 | Aerial Work Platforms.
39,064 | Minnesota Rubber Co. (IAM) | Minneapolis, MN | 04/05/2001 | Rubber Gastets, Sealers.
39,065 | Mundy Industrial Contract (Comp) | Leland, NC | 04/05/2001 | Yarn Filament, Staple Material.
39,066 | Boston Scientific (Comp) | Maple Grove, MN | 03/30/2001 | Diagnostic Catheters.

[FR Doc. 01-12561 Filed 5-17-01; 8:45 am]

BILLING CODE 4510-30-M